DEPARTMENT OF HEALTH AND HUMAN SERVICES

Administration for Children and Families

Proposed Information Collection Activity; Comment Request

Proposed Projects: Application for Grants to States.

Title: State Access and Visitation Grant Application.

OMB No.: 0970-NEW.

Description: The Personal Responsibility and Work Opportunity Reconciliation Act of 1996 (PRWORA) created the “Grants to States for Access and Visitation” program (AV grant program). Funding for the program began in FY 1997 with a capped, annual entitlement of $10 million. The statutory goal of the program is to provide funds to states that will enable them to provide services for the purpose of increasing noncustodial parent (NCP) access to and visitation with their children. State governors decide which state entity will be responsible for implementing the AV grant program in addition to determining who will be served, what services will be provided, and whether the services will be statewide or in local jurisdictions. The statute specifies certain activities which may be funded including: Voluntary and mandatory mediation, counseling, education, the development of parenting plans, supervised visitation, and the development of guidelines for visitation and alternative custody arrangements. Even though OCSE manages this program, the funding for the AV grant is separate from funding for federal and state administration of the Child Support program.

Section 469B(e)(3) of the Social Security Act (Pub. L. 104-193) requires that each state receiving an AV grant award shall monitor, evaluate and report on such programs in accordance with regulations. Additionally, the Catalog of Federal Domestic Assistance, states that there is an application requirement for Grants to States for Access and Visitation Programs (93.597). The application process will assist OCSE in complying with this requirement and will reflect a greater emphasis on program efficiency, coordination of services, and increased attention to family safety.

The application will require states to submit a program plan, indicating how they anticipate spending their funds within the program statue and regulations. The applications will cover three fiscal years and any changes made to the plan during the three year period will require a notification of change to OCSE.

OCSE will review the applications to ensure that planned services meet the requirements laid out in Section 469B(e)(3) of the Social Security Act (Pub. L. 104-193). This review will include monitoring of program compliance and the safe delivery of services. In addition to monitoring, the report will also assist in OCSE's ability to provide technical assistance to states that would like assistance.

Respondents: Recipients of the Access & Visitation Grant (54 states and territories).

Annual Burden Estimates
Instrument | Number of respondents | Number of responses per respondent | Average burden hours per response | Total burden hours
Fillable word document | 54 | 1 | 10 | 540

Estimated Total Annual Burden Hours: 540.

In compliance with the requirements of Section 506(c)(2)(A) of the Paperwork Reduction Act of 1995, the Administration for Children and Families is soliciting public comment on the specific aspects of the information collection described above. Copies of the proposed collection of information can be obtained and comments may be forwarded by writing to the Administration for Children and Families, Office of Planning, Research and Evaluation, 370 L'Enfant Promenade SW., Washington, DC 20447, Attn: ACF Reports Clearance Officer. Email address: infocollection@acf.hhs.gov. All requests should be identified by the title of the information collection.

The Department specifically requests comments on: (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Robert Sargis,
Reports Clearance Officer.

[FR Doc. 2016-00054 Filed 1-6-16; 8:45 am]

BILLING CODE 4184-01-P